DEPARTMENT OF JUSTICE

Notice of Lodging Proposed Consent Decree

In accordance with Departmental Policy, 28 CFR 50.7, notice is hereby given that a proposed consent decree in United States v. Henry J. Magnan, Civil Action No. 1:01-CV-333 (D.VT), was lodged with the United States District Court for the District of Vermont on June 14, 2002. This proposed Consent Decree concerns a complaint filed by the United States against Henry J. Magnan, pursuant to Sections 301(a) and 404 of the Clean Water Act, 33 U.S.C. 1311(a) and 1344, and imposes civil penalties against Defendant Henry J. Magnan, for the unauthorized discharge of dredged or fill material into waters of the United States located in wetlands on property in Farfield, Vermont.

The proposed Consent Decree requires the payment of civil penalties in the amount of $5,000 and requires Henry J. Magnan to restore the wetland and implement certain mitigation measures restricting livestock use of the riparian area.

The Department of Justice will accept written comments relating to this proposed Consent Decree for thirty (30) days from the date of publication of this notice. Please address comments to Joseph R. Perella, Assistant United States Attorney, United States Attorney's Office, P.O. Box 570, Burlington, Vermont 05402, and refer to United States v. Magnan, Civ. No. 1:01-CV-333 (D.VT).

The proposed Consent Decree may be examined at the Clerk's Office, United States District Court for the District of Vermont, 204 Main St., Brattleboro, Vermont. In addition, the proposed consent decree may be viewed on the World Wide Web at http://www.usdoj.gov/enrd/enrd-home.html.

Scott A. Schachter,
Assistant Chief Environmental Defense Section.

[FR Doc. 02-16215 Filed 6-26-02; 8:45 am]

BILLING CODE 4410-15-M